DEPARTMENT OF ENERGY

Federal Energy Regulatory Commission

Combined Notice of Filings #1

Take notice that the Commission received the following electric corporate filings:

Docket Numbers: EC18-123-000.

Applicants: Ninnescah Wind Energy, LLC, Kingman Wind Energy I, LLC, Kingman Wind Energy II, LLC, Pratt Wind, LLC.

Description: Application for Authorization Under Section 203 of the Federal Power Act and Request for Expedited Action of Ninnescah Wind Energy, LLC, et al.

Filed Date: 7/17/18.

Accession Number: 20180717-5064.

Comments Due: 5 p.m. ET 8/7/18.

Take notice that the Commission received the following exempt wholesale generator filings:

Docket Numbers: EG18-107-000.

Applicants: Cypress Creek Fund 11 Tenant, LLC.

Description: Notice of Self-Certification of Exempt Wholesale Generator Status of Cypress Creek Fund 11 Tenant, LLC.

Filed Date: 7/17/18.

Accession Number: 20180717-5112.

Comments Due: 5 p.m. ET 8/7/18.

Docket Numbers: EG18-108-000.

Applicants: Brantley Farm Solar, LLC.

Description: Notice of Self-Certification of Exempt Wholesale Generator Status of Brantley Farm Solar, LLC.

Filed Date: 7/17/18.

Accession Number: 20180717-5113.

Comments Due: 5 p.m. ET 8/7/18.

Take notice that the Commission received the following electric rate filings:

Docket Numbers: ER17-1498-005.

Applicants: Rockford Power II, LLC.

Description: Compliance filing: Refund Reports—Informational Filing to be effective N/A.

Filed Date: 7/16/18.

Accession Number: 20180716-5135.

Comments Due: 5 p.m. ET 8/6/18.

Docket Numbers: ER17-1499-005.

Applicants: Rockford Power, LLC.

Description: Compliance filing: Refund Reports—Informational Filing to be effective N/A.

Filed Date: 7/16/18.

Accession Number: 20180716-5134.

Comments Due: 5 p.m. ET 8/6/18.

Docket Numbers: ER18-2026-000.

Applicants: Wabash Valley Power Association, Inc.

Description: § 205(d) Rate Filing: Amendments to Formulary Rate Tariff to be effective 9/17/2018.

Filed Date: 7/17/18.

Accession Number: 20180717-5038.

Comments Due: 5 p.m. ET 8/7/18.

Docket Numbers: ER18-2027-000.

Applicants: Southwest Power Pool, Inc.

Description: § 205(d) Rate Filing: Revisions to Modify Mitigation Methodology for Locally-Committed Resources to be effective 12/18/2018.

Filed Date: 7/17/18.

Accession Number: 20180717-5040.

Comments Due: 5 p.m. ET 8/7/18.

Docket Numbers: ER18-2028-000.

Applicants: PJM Interconnection, L.L.C.

Description: § 205(d) Rate Filing: Revisions to OATT, Sch. 12—Appx A (Dominion) re: b2373 cost allocation to be effective 5/25/2015.

Filed Date: 7/17/18.

Accession Number: 20180717-5070.

Comments Due: 5 p.m. ET 8/7/18.

Docket Numbers: ER18-2029-000.

Applicants: Southern California Edison Company.

Description: § 205(d) Rate Filing: GIA and Distribution Service Agmt AltaGas Power Holdings (U.S.) Inc to be effective 7/18/2018.

Filed Date: 7/17/18.

Accession Number: 20180717-5085.

Comments Due: 5 p.m. ET 8/7/18.

Docket Numbers: ER18-2030-000.

Applicants: Southwest Power Pool, Inc.

Description: § 205(d) Rate Filing: Revisions to SPP's Market Settlements RNU Rounding Process to be effective 5/1/2019.

Filed Date: 7/17/18.

Accession Number: 20180717-5118.

Comments Due: 5 p.m. ET 8/7/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 17, 2018.
Nathaniel J. Davis, Sr.,
Deputy Secretary.

[FR Doc. 2018-15704 Filed 7-20-18; 8:45 am]

BILLING CODE 6717-01-P